DEPARTMENT OF ENERGY

Federal Energy Regulatory Commission

[Docket No. GT00-34-003]

Dauphin Island Gathering Partners; Notice of Proposed Changes in FERC Gas Tariff

February 28, 2001.

Take notice that on February 14, 2001, Dauphin Island Gathering Partners (DIGP) tendered for filing as part of its FERC Gas Tariff, Original Volume No. 1, the tariff sheet listed below to become effective January 1, 2001. DIGP states that the reason for this filing is to correct a typographical error in four of the negotiated rates.

Substitute Fourth Revised Sheet No. 9

DIGP states that a copies of this filing are being served on its customers and other interested parties.

Any person desiring to be heard or to protest said filing should file a motion to intervene or a protest with the Federal Energy Regulatory Commission, 888 First Street, NE., Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

David P. Boergers,
Secretary.

[FR Doc. 01-5342 Filed 3-5-01; 8:45 am]

BILLING CODE 6717-01-M